DEPARTMENT OF JUSTICE

Antitrust Division

Notice Pursuant to the National Cooperative Research and Production Act of 1993—Z-Wave Alliance, Inc.

Notice is hereby given that, on June 18, 2025, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Copeland Comfort Control LP, St. Louis, AL; Saya Life Inc, Los Angeles, CA; Hubbell Incorporated, Shelton, CT; Shenzhen iSurpass Technology Co., Ltd., Shenzhen, PEOPLE'S REPUBLIC OF CHINA; HELTUN Inc., Yerevan, REPUBLIC OF ARMENIA; RYSE Inc., Toronto, CANADA; and FireAvert, LLC, Springville, UT have been added as parties to this venture.

Also, Canny Electrics, Melbourne, COMMONWEALTH OF AUSTRALIA; Nexa Trading AB, Askim, KINGDOM OF SWEDEN; and Shenzhen Longzhiyuan Technology Co., Ltd. Shenzhen, PEOPLE'S REPUBLIC OF CHINA have withdrawn as parties to this venture.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on March 14, 2025. A notice was published in the Federal Register pursuant to section 6(b) of the Act on April 21, 2025 (90 FR 16701).

Suzanne Morris,
Deputy Director Civil Enforcement Operations, Antitrust Division.

[FR Doc. 2025-15369 Filed 8-12-25; 8:45 am]

BILLING CODE 4410-11-P